DEPARTMENT OF THE INTERIOR

Bureau of Indian Affairs

[156A2100DD/AAKC001030/A0A501010.999900 253G]

Land Acquisitions; Soboba Band of Luiseno Indians of California

AGENCY: Bureau of Indian Affairs, Interior.

ACTION: Notice of final agency determination.

SUMMARY: The Assistant Secretary—Indian Affairs made a final agency determination to acquire approximately 410.23 +/− acres of land in trust for the Soboba Band of Luiseno Indians, California, for gaming and other purposes on May 19, 2015.

FOR FURTHER INFORMATION CONTACT: Ms. Paula L. Hart, Director, Office of Indian Gaming, Bureau of Indian Affairs, MS-3657 MIB, 1849 C Street NW., Washington, DC 20240; Telephone (202) 219-4066.

SUPPLEMENTARY INFORMATION: This notice is published in the exercise of authority delegated by the Secretary of the Interior to the Assistant Secretary—Indian Affairs by 209 Departmental Manual 8.1, and is published to comply with the requirements of 25 CFR 151.12(c)(2)(ii) that notice of the decision to acquire land in trust be promptly provided in the Federal Register.

On May 19, 2015, the Assistant Secretary—Indian Affairs issued a decision to accept approximately 410.23+/− acres of land into trust for the Soboba Band of Luiseno Indians, California (Tribe), under the authority of the Indian Reorganization Act of 1934, 25 U.S.C. 465. The Assistant Secretary—Indian Affairs determined that the Tribe's request also meets the requirements of the Indian Gaming Regulatory Act's “contiguous” exemption, 25 U.S.C. 2719(a)(1), to the general prohibition contained in 25 U.S.C. 2719(a) on gaming on lands acquired in trust after October 17, 1988.

The 410.23 acres are located in San Jacinto, Riverside County, California, and are described as follows:

Legal Description

Parcel 1: (APN's: 433-120-023-6; 433-140-030-4 and 433-140-001-8)

Those portions of Parcels 1 and 2 of Parcel Map 19805 in the County of Riverside, State of California, as shown by map on file in book 123 pages 22 through 25, inclusive of Parcel maps, records of Riverside County, California, lying easterly and southerly of a line described as follows:

Beginning at the southwesterly corner of said Parcel 1;

Thence north 34°06′54″ west, 625.58 feet;

Thence north 9°42′03″ west, 501.82 feet;

Thence north 14°28′46″ west, 437.72 feet;

Thence north 26°20′47″ west, 510.16 feet;

Thence south 86°35′25″ east, 371.92 feet;

Thence north 83°12′23″ east, 792.55 feet to the northeasterly corner of said Parcel 1.

Parcel 2: (APN's: 433-140-024-9; 433-140-026-1 and 433-140-020-5)

That portion of lots 1 and 3 of the Jose A. Estudillo Subdivision of Tract VII of the Rancho San Jacinto Viejo, as shown by map on file in book 6 page 304 of maps, records of San Diego County, California, described as follows:

Beginning at a point on the southerly line of said lot 1, designated as S.J. 35 on above mentioned map, said point being also the northwest corner of the Indian reservation, in the northwest quarter of section 31, township 4 south, range 1 east, San Bernardino base and meridian;

Thence north 43°00′west, 20 chains;

Thence north 38°30′west, 7.50 chains;

Thence north 31°30′west, 11 chains;

Thence north 11°50′west, 17.11 chains;

Thence north 11°50′west, 4.46 chains, more or less, to a point on the San Bernardino base and meridian line, 151 feet north of the quarter section between sections 25 and 30 in township 4 south, range 1 east, San Bernardino base and meridian;

Thence north 13°45′west to the northwesterly line of said lot 3, said line also being the southeasterly line of an avenue, 80 feet wide, as shown on said map;

Thence south 42° west, on said southeasterly line of said avenue, to the southwesterly line of said Tract VII;

Thence south 45° east, 56.40 chains, on said southwesterly line, to the most southerly corner of said lot 3;

Thence north 41°50′east on the southeasterly line of said lots 3 and 1, 41.65 chains, to the point of beginning;

Excepting therefrom that portion in the highway known as Soboba Springs Road, as described in deed recorded in book 263 page 144 and in book 276 page 140, respectively, both of deeds, records of Riverside County, California;

Also excepting therefrom Parcel 4020-122a, as shown on record of survey, on file in book 33 pages 48 through 62, inclusive of records of survey, records of Riverside County, California;

Also excepting therefrom Parcel 4020-122c, as shown on record of survey, on file in book 46 page 15 of records of survey, records of Riverside County, California;

Also excepting therefrom that portion lying northwesterly of the southeasterly line of Soboba Road (now shown as Main Street), as shown on record of survey, on file in book 33 page 57 of records of survey, records of Riverside County, California;

Also excepting therefrom that portion described as follows:

That portion of lot 3 of Jose A. Estudillo's Subdivision of Tract VII in Rancho San Jacinto Viejo, as shown by map on file in book 6 page 304 of maps, records of San Diego County, California, being more particularly described as follows:

Commencing at the center line intersection of Main Street and Soboba Road, as said intersection is shown by record of survey, on file in book 46 page 15 of records of survey, records of Riverside County, California;

Thence south 49°59′10″ west along said center line of Main Street, a distance of 1,149.16 feet to the true point of beginning;

Thence south 40°00′50″ east, a distance of 329.48 feet;

Thence north 51°54′9″ east, a distance of 65.00 feet;

Thence south 47°38′27″ east, a distance of 71.67 feet to the beginning of a non-tangent curve concave southerly and having a radius of 166.00 feet, a radial line to the beginning of said non-tangent curve bears north 47°38′27″ west;

Thence easterly along said curve through an angle of 60°07′37″, a distance of 174.20 feet;

Thence tangent to said curve south 77°30′50″ east, a distance of 540.15 feet to the beginning of a tangent curve concave southwesterly and having a radius of 416.00 feet;

Thence southeasterly along said curve through an angle of 38°29′43″, a distance of 279.50 feet to the beginning of a compound curve concave westerly and having a radius of 508.00 feet, a radial line to the beginning of said compound curve bears north 50°58′53″ east;

Thence southerly along said compound curve through an angle of 51°30′17″, a distance of 456.65 feet;

Thence tangent to said curve south 12°29′10″ west, a distance of 144.32 feet to the beginning of a tangent curve concave northwesterly and having a radius of 508.00 feet;

Thence southwesterly along said curve through an angle of 37°16′11″, a distance of 330.44 feet;

Thence tangent to said curve south 49°45′21″ west, a distance of 512.52 feet to the beginning of a tangent curve concave northerly and having a radius of 453.00 feet;

Thence southwesterly, westerly and northwesterly along said curve through an angle of 99°31′25″, a distance of 786.87 feet;

Thence tangent to said curve north 30°43′14″ west, a distance of 865.52 feet to the beginning of a tangent curve concave northeasterly and having a radius of 508.00 feet;

Thence northwesterly along said curve through an angle of 20°04′30″ a distance of 177.99 feet to the beginning of a compound curve easterly and having a radius of 131.00 feet, a radial line to the beginning of said compound curve bears south 79°21′16″ west;

Thence northerly along said compound curve through an angle of 29°08′43″, a distance of 66.64 feet; thence north 71°30′01″ west, a distance of 113.40 feet to an intersection with the southeasterly line of Parcel No. 4020-122c, as shown on the aforesaid record of survey (southeasterly line of that portion of Parcel No. 4020-122c which is adjacent to Main Street);

Thence north 46°16′14″ east along said southeasterly line a distance of 43.21 feet to an angle point on said southeasterly line;

Thence continuing along said southeasterly line north 49°59′10″ east, a distance of 370.16 feet;

Thence north 40°00′50″ west, a distance of 50.00 feet to an intersection with the aforesaid center line of Main Street;

Thence north 49°59′10″ east along said center line, a distance of 340.35 feet to the true point of beginning.

Parcel 3: (APN'S: 433-140-042-5; 433-140-044-7; 433-140-045-8; 433-140-046-9; 433-140-047-0; 433-140-048-1 and 433-140-049-2)

Lots 1 through 6 inclusive of Tract No. 21943, as shown by map on file in book 239 page(s) 90 through 94 inclusive, of maps, records of Riverside County, California.

Parcel 3a

That portion of that certain 80.00 foot wide avenue, vacated, lying between lots 3 and 4 of the Jose A. Estudillo Subdivision of Tract VII of the Rancho San Jacinto Viejo, as shown by map on file in book 6 page(s) 304 of maps, records of San Diego County, California, described as follows:

Beginning at the most westerly corner of Parcel 3 of Parcel Map No. 19805, as shown by Parcel map on file in book 123 pages 22 through 25 inclusive of parcel maps, records of Riverside County, California, said corner being also an angle point in the boundary line of said Parcel Map No. 19805, and a point on the southeasterly right of way line of said vacated avenue;

Thence north 41°52′18″ east along said boundary line and southeasterly right of way line, a distance of 750.94 feet to an angle point in said boundary line;

Thence north 19°48′26″ west along said boundary line, a distance of 45.44 feet to an intersection with the center line of said vacated avenue;

Thence south 41°52′18″ west along said center line, a distance of 750.25 feet;

Thence south 19°03′01″ east, a distance of 45.77 feet to the point of beginning;

Excepting therefrom that portion lying within Tract No. 21943, as shown by map on file in book 239 page(s) 90 through 94 inclusive of maps, records of Riverside County, California.

Parcel 3b

An easement inuring to the benefit of parcels 3 and 3a for the purpose of drainage, desilting facilities, slopes, pedestrian and golf cart circulation, vehicular access, and/or utilities, (including, without limitation, the construction, installation and maintenance of improvements for sewer, water, telephone, gas, electrical and any other utility services), as set forth in and limited by that certain easement agreement made as of September 23, 1983, between Daon Corporation, a Delaware Corporation and Diet Center Incorporated, an Idaho Corporation, recorded September 24, 1982 as Instrument No. 165704 of official records of Riverside County, California.

Parcel 4: (APN: 433-120-008-3)

That portion of lot 4 of the San Diego Jose A Estudillos Subdivision of Tract 7 of Rancho San Jacinto Viejo, as per the map thereof record in book 6, page(s) 304 of miscellaneous maps in the office of the county recorder of said county and state, consisting of seven and eighty-seven hundredths (7.87) acres, more or less, as more particularly described as follows:

Beginning at a point on the southeasterly line of said lot 4, at the most southerly corner of certain 100-acre parcel shown on the record of survey recorded in book 9, page(s) 31 of records of survey, in the office of the county recorder of said county and state; thence north 19°41′west, 1003.81 feet on the southwesterly line of said 100-acre parcel to the northwesterly line of said lot 4; thence southwesterly along the northwesterly line of said lot 4, 431.40 feet; thence south 21°09′50″ east, 990.44 feet to a point on the southeasterly line of said lot 4; thence northeasterly along the southeasterly line of said lot 4, 402.50 feet to the point of beginning;

Excepting therefrom, that portion granted to the Riverside County Flood Control and Water Conservation District by a deed recorded August 20, 1964 as Instrument No. 102297 of official records of said county and state.

Parcel 5: (APN: 433-120-009-4)

That portion of lot 4 of the San Diego Jose A Estudillos Subdivision of Tract 7 of Rancho San Jacinto Viejo, as per the map thereof recorded in book 6, page(s) 304 of miscellaneous maps in the office of the county recorder of said county and state, consisting of two and three-tenths (2.30) acres, more or less, as more particularly described as follows:

Beginning at a three (3) inch by three (3) inch by twenty-four (24) inch white redwood stake at the most southerly corner of that certain 100-acre parcel shown on the record of survey recorded in book 9, page(s) 31 of records of survey, in the office of the county recorded of said county and state; thence north 19°41′30″ west, 352.0 feet along the southwesterly side of said 100-acre parcel; thence north 42°01′30″ east, 352.00 feet to a point; thence south 19°41′30″ east, 352.0 feet to the center of an 80-foot road as shown on the aforesaid record of survey; thence south 42°01′30″ west, 352.0 feet along the center line of said 80-foot road to the point of beginning.

Parcel 6: (APN'S: 433-100-002-5; 433-100-013-5 and 433-100-014-6)

That portion of lots 1, 2, and 3 of Hot Springs Tract, as shown by map on file in book 8 page 5 of maps, records of Riverside County, California, described as follows:

Beginning at the intersection of the northwesterly boundary line of said Hot Springs Tract with the center line of Soboba Road, as said intersection is shown on Parcel Map No. 19805, on file in book 123 pages 22 through 25, inclusive, of parcel maps, records of Riverside County, California;

Thence south 44°46′47″ west, along said northwesterly boundary line of Hot Springs Tract, a distance of 384.21 feet to the most northerly corner of parcel 2 of said Parcel Map No. 19805;

Thence south 46°31′38″ east, a distance of 713.68 feet to an angle point in the boundary line of said parcel 2;

Thence along said boundary line of parcel 2 of the following courses:

South 82°15′51″ east, a distance of 502.62 feet;

North 67°53′54″ east, a distance of 265.29 feet;

North 3°19′39″ east, a distance of 261.00 feet to the southerly right-of-way line of Soboba Road;

Thence north 14°50′16″ east, a distance of 50.00 feet to an intersection with said center line of Soboba Road, said intersection being also a point on a curve concave southwesterly and having a radius of 1,000.00 feet, a radial line to said point bears north 14°50′16″ east;

Thence along said center line the following courses:

Northwesterly along said curve through an angle of 3°22′26″, a distance of 58.89 feet; tangent to said curve north 78°32′10″ west, a distance of 328.16 feet to the beginning of a tangent curve, concave northeasterly and having a radius of 1,200.00 feet; northwesterly along said curve through an angle of 27°42′26″, a distance of 580.30 feet; tangent to said curve north 50°49′44″ west, a distance of 155.60 feet to the point of beginning;

Excepting therefrom that portion lying within Soboba Road, 100 feet wide;

Also excepting therefrom that portion conveyed to Eastern Municipal Water District, by deed recorded March 1, 1968 as Instrument No. 19156 of official records of Riverside County, California.

Parcel no. 7 (APN'S: 433-080-002-4; 433-080-005-7; 433-080-006-8; 433-080-007-9; 433-080-010-1 and 433-080-011-2)

That portion of Tract VI, as shown by map of partition of Rancho San Jacinto Viejo, made under decree of superior court of state of California, in and for the county of San Diego, dated March 9, 1882 and recorded in book 43, page(s) 161 of deeds, San Diego County records, lying northeasterly of Auburn Avenue as shown on map of Olmsteads Subdivision on file in book 4, page(s) 261 of maps, San Diego County records.

Excepting therefrom a strip of land 60 feet wide, for road purposes conveyed to County of Riverside by deed recorded January 5, 1928, in book 722, page(s) 103 of deeds, Riverside County records. Except from those portions of said strip of land 60 feet wide, as abandoned by resolution recorded January 27, 1971 as instrument no. 8535 and conveyed by quitclaim deed recorded January 27, 1971 as instrument no. 8535 and conveyed by quitclaim deed recorded January 27, 1971 as instrument no. 8536 both of official records of said county.

A portion of said property is also shown on map of part of Tract VI, Rancho San Jacinto Viejo, on file in book 6, page(s) 5 of maps, Riverside County records.

Also except therefrom that portion granted to Riverside County Flood Control and Water Conservation District by deed recorded June 30, 1966, as Instrument No. 66-67438 of official records.

Also except therefrom that portion granted to County of Riverside by final order of condemnation recorded January 27, 1971, as Instrument No. 71-8534, of official records.

Also except therefrom a portion of land located in section 24, township 4 south, range 1 west being more particularly described as follows:

Beginning at an angle point in the northerly line of Rancho San Jacinto Viejo SJ 38; Thence south 19°51′35″ east a distance of 608.67 feet to a point on the northerly right of way of Soboba Road as described in Instrument No. 71-8534 rec. January 27, 1971 being 100 feet in width;

Thence, along the northerly line of said Soboba Road the following four (4) courses:

North 50°30′20″ west a distance of 273.08 feet to the beginning of a tangent curve being concave to the northeast having a radius of 1950.00 feet and a central angle of 15°15′31″;

Northwesterly along the arc of said curve a distance of 519.31 feet;

North 35°14′48″ west a distance of 821.57 feet to the beginning of a tangent curve being concave to the southwest having a radius of 1050.00 feet and a central angle of 00°33′54″;

Westerly along the arc of said curve a distance of 10.36 feet to a point on the northerly line of said Rancho San Jacinto Viejo;

Thence south 51°43′19″ east along the said northerly line a distance of 1065.47 feet to the said point of beginning.

Also except therefrom a portion of land located in section 24, township 4 south, range 1 west being more particularly described as follows:

Beginning at the intersection of the northeasterly line of a parcel of land described in Instrument No. 66-67438 rec. June 30, 1966 with the southerly line of said section 24;

Thence, along the northerly line of said Instrument No. 66-67438 the following three (3) courses;

North 19°36′38″ west a distance of 140.57 feet to the beginning of a tangent curve being concave to the southwest having a radius of 2800.00 feet and a central angle of 27°16′49″;

Northwesterly along the arc of said curve a distance of 1333.17 feet;

North 46°53′28″ west a distance of 1481.20 feet to the extension northerly of the northwesterly line of the map of Olmsteds Subdivision of file in book 4, page 261 of maps, San Diego County records;

Thence north 45°09′14″ east along the said extension of said MB 4/261 a distance of 616.61 feet to a point on the southerly right of way of Soboba Road as described in Instrument No. 71-8534 rec. January 27, 1971 being 100 feet in width, said point also being a point on a non-tangent curve being concave to the southwest having a radius of 950.00 feet, a central angle of 12°14′42″ and a radial bearing of north 42°30′29″ east;

Thence, along the southerly line of said Soboba Road the following four (4) courses:

Easterly along the arc of said curve a distance of 203.03 feet;

South 35°14′49″ east a distance of 821.57 feet to the beginning of a tangent curve concave to the northeast having a radius of 2050.00 feet and a central angle of 15°15′31″ feet;

Easterly along the arc of said curve a distance of 545.94 feet;

South 50°30′20″ east a distance of 441.87 feet;

Thence, leaving said southerly line, south 19°51′35″ east a distance of 1254.10 feet to a point on the southerly line of said section 24;

Thence south 89°45′18″ west along the southerly line of said section 24 a distance of 330.00 feet to the said point of beginning.

Parcel no. 8: (APN'S: 430-030-015-0; 430-030-016-1 and 433-030-017-2)

Government lots 5, 6, 7 and 8 in fractional section 24, township 4 south, range 1 west, San Bernardino base and meridian, as shown by United States Government Survey approved May 8, 1885.

Excepting therefrom any portion thereof included in strip of land 60 feet wide for road purposes conveyed to County of Riverside, by deed recorded January 6, 1928, in book 722, page(s) 103 of deeds, Riverside County records.

Also excepting therefrom that portion of said government lots 5 and 6 being more particularly described as follows:

Beginning at the northwest corner of said lot 5;

Thence north 89°45′18″ east along the north line of said lots 5 and 6 a distance of 2468.91 feet to the northeast corner of said lot 6;

Thence south 00°17′20″ west along the east line of said lot 6 a distance of 484.12 feet;

Thence, leaving said easterly line, south 81°58′55″ west a distance of 1599.30 feet to an angle point in the northerly line of Rancho San Jacinto Viejo SJ 38;

Thence north 51°43′19″ west along the said northerly line and southerly line of said lot 5 a distance of 1124.55 feet to the said point of beginning.

Parcel 9: (APN'S: 433-100-015-7; 433-110-013-6; 433-120-031-3; 433-140-022-7; 433-140-031-5 and 433-140-041-4)

Parcels 1, 2 and 3 of parcel map 19805, in the County of Riverside, State of California, as per map recorded in book 123, page(s) 22 through 25, inclusive of parcel maps, in the Office of the County Recorder of said county, together with that portion of lots 1, 2 and 3 of Hot Springs Tract as shown by map on file in book 8, page(s) 5 of maps, said Riverside County, California, lying southerly of the southerly right of way line of Soboba Road, 100.00 feet wide, and together with that portion of lots 3, 4, 5 and 6 of the Jose A. Estudillo Subdivision of Tract VII of the Rancho San Jacinto Viejo as shown by map on file in book 6, page(s) 304 of maps, records of San Diego County, California, and portions of the vacated streets, lying westerly of the westerly right of way line of said Soboba Road, as said portions of Hot Springs Tract and Jose A. Estudillo Subdivision as shown on map of said Parcel Map No. 19805.

Except that portion of said parcels 1 and 2 lying easterly and southerly of a line described as follows:

Beginning at the southwesterly corner of said parcel 1:

Thence north 34°06′54″ west 626.58 feet;

Thence north 09°42′03″ west 501.82 feet;

Thence north 14°28′46″ west 437.72 feet;

Thence north 26°20′47″ west 510.16 feet;

Thence south 86°35′25″ east 371.92 feet;

Thence north 83°12′23″ east 792.55 feet to the northeasterly corner of said parcel 1.

Also except that portion of said parcels 2 and 3 lying westerly of a line described as follows:

Beginning, at the most westerly corner of said parcel 3;

Thence north 41°52′18″ east on the northerly line of said parcel 3, and its prolongation, 712.65 feet to the true point of beginning.

Thence south 16°42′14″ east 25.12 feet;

Thence south 15°25′16″ west 572.24 feet;

Thence south 17°28′52″ east 212.79 feet;

Thence south 21°13′53″ east 215.19 feet;

Thence south 21°25′27″ east 210.69 feet;

Thence south 28°03′31″ east 187.00 feet;

Thence north 14°15′16″ east 33.64 feet to the beginning of a non-tangent curve concave southwesterly and having a radius of 160.00 feet, a radial line to said beginning bears north 30°13′49″ west;

Thence southeasterly on said curve through an angle of 80°12′59″ 224.01 feet;

Thence tangent to said curve south 40°00′50″ east 19.34 feet to an intersection with the southerly line of said Parcel 2, and said line there terminating.

Also except that portion described as follows:

Beginning at the northeast corner of Parcel 1 of said Parcel Map No. 19805, said corner being also a point on the westerly right of way line of Soboba Road, 100.00 feet wide;

Thence north 12°18′57″ west on said westerly right of way line 532.75 feet to the true point of beginning;

Thence south 77°41′03″ west 100.16 feet to the beginning of a non-tangent curve concave westerly and having a radius of 60.00 feet, radial line to said beginning bears north 73°31′23″ east;

Thence southerly on said curve through an angle of 51°42′49″ 54.15 feet;

Thence south 51°20′39″ east 28.93 feet;

Thence south 04°22′16″ east 73.55 feet;

Thence south 41°52′18″ west 32.15 feet;

Thence south 83°41′40″ west 107.78 feet;

Thence north 88°57′35″ west 45.36 feet;

Thence north 88°36′50″ west 48.41 feet;

Thence north 84°34′50″ west 43.75 feet;

Thence north 84°02′59″ west 566.64 feet;

Thence north 30°06′11″ west 107.84 feet;

Thence north 21°46′31″ west 252.93 feet;

Thence north 14°02′58″ west 172.97 feet;

Thence north 07°00′02″ west 428.12 feet;

Thence north 13°02′49″ east 67.65 feet;

Thence north 48°43′11″ east 63.22 feet;

Thence north 78°07′26″ east 153.05 feet;

Thence north 11°52′34″ west 50.00 feet;

Thence north 56°55′17″ east 44.55 feet;

Thence north 55°17′24″ east 25.00 feet;

Thence north 52°17′37″ east 39.71 feet;

Thence north 48°44′15″ east 39.33 feet;

Thence north 48°35′52″ east 81.72 feet;

Thence north 51°01′00″ east 53.49 feet to the beginning of a non-tangent curve concave southeasterly and having a radius of 47.00 feet, a radial line to said beginning bears north 89°04′52″ west;

Thence northeasterly on said curve through an angle of 90°03′45″ 73.88 feet;

Thence north 00°58′53″ east 20.06 feet;

Thence north 56°37′33″ east 117.65 feet to an intersection with the aforesaid westerly right of way line of Soboba Road, said intersection being also a point on a curve concave southwesterly and having a radius of 950.00 feet, radial line to said point bears north 53°24′10″ east;

Thence or said westerly right of way line of Soboba Road the following courses;

Southeasterly on said curve through an angle of 03°13′23″ 53.44 feet;

Tangent to said curve south 33°22′27″ east 533.59 feet to the beginning of a tangent curve concave southwesterly and having a radius of 1,150.00 feet;

Southeasterly on said curve through an angle of 21°03′30″ 422.67 feet;

Tangent to said curve south 12°18′57″ east 418.24 feet to the true point of beginning.

Also except that portion described as follows:

Beginning at the intersection of the northwesterly boundary line of said Hot Springs Tract with the centerline of Soboba Road, as said intersection is shown on said Parcel Map No. 19805;

Thence south 44°46′47″ west on said northwesterly boundary line of Hot Springs Tract 384.21 feet to the most northerly corner of Parcel 2 of said Parcel Map No. 19805;

Thence south 46°31′38″ east 713.63 feet to an angle point in the boundary line of said Parcel 2;

Thence or said boundary line of Parcel 2 the following courses:

South 82°15′51″ east 502.62 feet;

North 67°53′54″ east 265.29 feet;

North 03°19′39″ east 261.00 feet to the southerly right of way line of said Soboba Road;

Thence north 14°50′16″ east 50.00 feet to an intersection with said centerline of Soboba Road, said intersection being also a point on a curve concave southwesterly and having a radius of 1,000.00 feet, a radial line to said point bears north 14°50′16″ east;

Thence or said centerline the following courses;

Northwesterly on said curve through an angle of 03°22′26″ 58.89 feet;

Tangent to said curve north 78°32′10″ west 328.16 feet to the beginning of a tangent curve concave northeasterly and having a radius of 1,200.00 feet;

Northwesterly on said curve through an angle of 27°42′26″ 580.30 feet;

Tangent to said curve north 50°49′44″ west 155.60 feet to the point of beginning.

Dated: May 22, 2015.
Kevin K. Washburn,
Assistant Secretary—Indian Affairs.

[FR Doc. 2015-12985 Filed 6-2-15; 8:45 am]

BILLING CODE 4337-15-P